DEPARTMENT OF TRANSPORTATION

Federal Aviation Administration

14 CFR Part 39

[Docket No. FAA-2005-22527; Directorate Identifier 2004-NM-04-AD; Amendment 39-14420; AD 2005-25-27]

RIN 2120-AA64

Airworthiness Directives; Airbus Model A300 B2 Series Airplanes; A300 B4-103 and B4-203 Airplanes; and A310-203 Airplanes

AGENCY: Federal Aviation Administration (FAA), Department of Transportation (DOT).

ACTION: Final rule.

SUMMARY: The FAA is adopting a new airworthiness directive (AD) for certain Airbus Model A300 B2 series airplanes, A300 B4-103 and B4-203 airplanes, and A310-203 airplanes. This AD requires a one-time inspection for missing or incorrect rivets in the structural area affected by conversion from passenger to freight configuration, and corrective action if necessary. This AD results from a report of rivets missing from the passenger-to-freight converted area. We are issuing this AD to prevent structural failure of the main deck and main deck cargo door areas.

DATES: This AD becomes effective January 24, 2006.

The Director of the Federal Register approved the incorporation by reference of certain publications listed in the AD as of January 24, 2006.

ADDRESSES: You may examine the AD docket on the Internet at http://dms.dot.gov or in person at the Docket Management Facility, U.S. Department of Transportation, 400 Seventh Street SW., Nassif Building, room PL-401, Washington, DC.

Contact EADS Airbus GmbH, Postfach 95 01 09, 21111 Hamburg, Germany, for service information identified in this AD.

FOR FURTHER INFORMATION CONTACT: Jon Hjelm, Aerospace Engineer, Airframe and Propulsion Branch, ANE-171, FAA, New York Aircraft Certification Office, 1600 Stewart Avenue, suite 410, Westbury, New York 11590; telephone (516) 228-7323; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 B2 series airplanes, A300 B4-103 and B4-203 airplanes, and A310-203 airplanes. That NPRM was published in the Federal Register on September 27, 2005 (70 FR 56378). That NPRM proposed to require a one-time inspection for missing or incorrect rivets in the entire structural area affected by conversion from passenger-to-freight configuration, and corrective action if necessary.

Comments

We provided the public the opportunity to participate in the development of this AD. We received no comments on the NPRM or on the determination of the cost to the public.

Clarification of All Operator Telex (AOT) Reference

We have clarified the reference to the Airbus AOT, which was cited in the NPRM as Airbus AOT M113-02-007, dated June 21, 2002. The reference to Airbus AOT M113-02-007 parallels the citation for this AOT that was given in German airworthiness directive 2002-200, dated June 27, 2002, which also addresses the subject of this AD. However, the service bulletins that are referenced as the appropriate source of service information for accomplishing the required actions refer to this same AOT with the number BWED/101/02. Therefore, we have determined that referring to this AOT as “Airbus A300 B4, A310-200 All Operator Telex BWED/101/02 (LBA Approval, Reference M113-02-007), dated June 21, 2002,” will minimize confusion.

Conclusion

We have carefully reviewed the available data and determined that air safety and the public interest require adopting the AD with the change described previously. We have determined that this change will neither increase the economic burden on any operator nor increase the scope of the AD.

Costs of Compliance

This AD affects about 6 airplanes of U.S. registry. The actions take about 80 work hours per airplane, at an average labor rate of $65 per work hour. Based on these figures, the estimated cost of the AD for U.S. operators is $31,200, or $5,200 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-25-27 Airbus: Amendment 39-14420. Docket No. FAA-2005-22527; Directorate Identifier 2004-NM-04-AD.

Effective Date

(a) This AD becomes effective January 24, 2006.

Affected ADs

(b) None.

Applicability

(c) This AD applies to Airbus Model A300 B2-1A, B2-1C, B2K-3C, and B2-203 airplanes; Model A300 B4-103 and B4-203 airplanes, and Model A310-203 airplanes; certificated in any category; as identified in EADS Airbus A300 Alert Service Bulletin DA-53-073, dated June 26, 2002; and EADS Airbus A310 Alert Service Bulletin DA-53-074, dated June 27, 2002; as applicable.

Unsafe Condition

(d) This AD was prompted by a report of rivets missing from the structural area affected by conversion from passenger-to-freight configuration. We are issuing this AD to prevent structural failure of the main deck and main deck cargo door areas.

Compliance

(e) You are responsible for having the actions required by this AD performed within the compliance times specified, unless the actions have already been done.

Inspection

(f) Within 300 flight cycles after the effective date of this AD: Do a general visual inspection for missing or incorrect rivets in the structural area affected by conversion from passenger-to-freight configuration identified in Airbus A300 B4, A310-200 All Operator Telex Airbus BWED/101/02 (LBA Approval, Reference M113-02-007), dated June 21, 2002. Do the inspections in accordance with the Accomplishment Instructions of EADS Alert Service Bulletin DA-53-073, dated June 26, 2002; or EADS Airbus A310 Alert Service Bulletin DA-53-074, dated June 27, 2002; as applicable.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Action

(g) If any inspection required by paragraph (f) of this AD identifies a missing or incorrect rivet: Before further flight, repair according to a method approved by either the Manager, New York Aircraft Certification Office (ACO), FAA; or the Luftfahrt-Bundesamt (LBA) (or its delegated agent).

No Reporting Required

(h) Although the service bulletins referenced in this AD specify to submit certain information to the manufacturer, this AD does not include that requirement.

Alternative Methods of Compliance (AMOCs)

(i)(1) The Manager, New York ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) German airworthiness directive 2002-200, dated June 27, 2002, also addresses the subject of this AD.

Material Incorporated by Reference

(k) You must use the service information listed in Table 1 of this AD to perform the actions that are required by this AD, unless the AD specifies otherwise. The Director of the Federal Register approved the incorporation by reference of these documents in accordance with 5 U.S.C. 552(a) and 1 CFR part 51. Contact EADS Airbus GmbH, Postfach 95 01 09, 21111 Hamburg, Germany, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—Material Incorporated by Reference
Service document | Date
Airbus A300 B2, A310-200 All Operator Telex BWED/101/02 (LBA Approval, Reference M113-02-007) | June 21, 2002.
EADS Airbus A300 Alert Service Bulletin DA-53-073 | June 26, 2002.
EADS Airbus A310 Alert Service Bulletin DA-53-074 | June 27, 2002.

Issued in Renton, Washington, on December 8, 2005.
Michael Zielinski,
Acting Manager, Transport Airplane Directorate, Aircraft Certification Service.

[FR Doc. 05-24049 Filed 12-19-05; 8:45 am]

BILLING CODE 4910-13-P